DEPARTMENT OF COMMERCE

National Oceanic and Atmospheric Administration

[RTID 0648-XD624]

Pacific Fishery Management Council; Public Meeting

AGENCY: National Marine Fisheries Service (NMFS), National Oceanic and Atmospheric Administration (NOAA), Commerce.

ACTION: Notice of public meeting.

SUMMARY: The Pacific Fishery Management Council (Pacific Council) will convene a meeting of the Scientific and Statistical Committee's (SSC) Groundfish Subcommittee (GFSC) to review public comments associated with the 2021 stock assessment and 2023 rebuilding analyses of quillback rockfish off California. The SSC GFSC meeting is open to the public and will be conducted in person with a web broadcast that provides the opportunity for remote public comment.

DATES: The SSC GFSC meeting will be held Friday, January 26, 2024 from 8:30 a.m. until 3:30 p.m. (Pacific standard time) or when business for the day has been completed.

ADDRESSES: The SSC GFSC meeting will be held in the Wallingford/Fremont Rooms of the Watertown Hotel/Inn, 4242 Roosevelt Way NE, Seattle, WA 98105; telephone 206-826-4242.

This meeting is being conducted in person with a web broadcast that provides the opportunity for remote public comment. Specific meeting information, materials, and instructions for how to connect to the meeting remotely will be provided in the meeting announcement on the Pacific Council's website (see https://www.pcouncil.org). You may send an email to Mr. Kris Kleinschmidt (kris.kleinschmidt@noaa.gov) or contact him at 503-820-2280, extension 412 for technical assistance.

Council address: Pacific Fishery Management Council, 7700 NE Ambassador Place, Suite 101, Portland, OR 97220-1384.

FOR FURTHER INFORMATION CONTACT: Marlene A. Bellman, Staff Officer, Pacific Council; telephone: (503) 820-2414, email: marlene.bellman@noaa.gov.

SUPPLEMENTARY INFORMATION: The purpose of the SSC GFSC meeting is to review public comments associated with the 2021 stock assessment and 2023 rebuilding analyses of quillback rockfish off California, as provided during the November 2023 Pacific Council meeting. The review meeting will follow Terms of Reference designed for this specific review as requested by the Pacific Council, as well as SSC operational guidelines.

No management actions will be decided by the SSC GFSC. The meeting participants' role will be the development of recommendations and reports for consideration by the full SSC and Pacific Council at the March 2024 meeting in Fresno, California.

Although non-emergency issues not contained in the meeting agendas may be discussed, those issues may not be the subject of formal action during these meetings. Action will be restricted to those issues specifically listed in this document and any issues arising after publication of this document that require emergency action under section 305(c) of the Magnuson-Stevens Fishery Conservation and Management Act, provided the public has been notified of the intent to take final action to address the emergency.

Special Accommodations

Requests for sign language interpretation or other auxiliary aids should be directed to Mr. Kris Kleinschmidt (kris.kleinschmidt@noaa.gov; (503) 820-2412) at least 10 days prior to the meeting date.

Authority: 16 U.S.C. 1801 et seq.

Dated: January 5, 2024.
Rey Israel Marquez,
Acting Deputy Director, Office of Sustainable Fisheries, National Marine Fisheries Service.

[FR Doc. 2024-00358 Filed 1-9-24; 8:45 am]

BILLING CODE 3510-22-P